DEPARTMENT OF ENERGY

Federal Energy Regulatory Commission

[Docket Nos. ER06-615-000; ER07-1257-000]

California Independent System Operator Corporation; Notice of FERC Staff Attendance

December 15, 2008.

The Federal Energy Regulatory Commission (Commission) hereby gives notice that on the following dates members of its staff will attend a meeting of the Board of Governors of the California Independent System Operator (CAISO). Unless otherwise noted, this meeting will be held at the CAISO, 151 Blue Ravine Road, Folsom, CA or by teleconference. The agenda and other documents for the meetings are available on the CAISO's Web site, http://www.caiso.com.

December 16-17, 2008, Board of Governors Meeting.

Sponsored by the CAISO, this meeting is open to all market participants, and staff's attendance is part of the Commission's ongoing outreach efforts. This meeting may discuss matters at issue in the above captioned dockets.

For further information, contact Saeed Farrokhpay at saeed.farrokhpay@ferc.gov; (916) 294-0233 or Maury Kruth at maury.kruth@ferc.gov, (916) 294-0275.

Kimberly D. Bose,
Secretary.

[FR Doc. E8-30227 Filed 12-18-08; 8:45 am]

BILLING CODE 6717-01-P